DEPARTMENT OF COMMERCE

International Trade Administration

[A-570-108]

Ceramic Tile From the People's Republic of China: Notice of Correction to the Preliminary Affirmative Determination of Sales at Less Than Fair Value

AGENCY: Enforcement and Compliance, International Trade Administration, Department of Commerce.

SUMMARY: The Department of Commerce (Commerce) is correcting the preliminary determination of sales at less than fair value (LTFV) for ceramic tile from the People's Republic of China (China). The period of investigation is October 1, 2018, through March 31, 2019.

DATES: Applicable December 13, 2019.

FOR FURTHER INFORMATION CONTACT: Heather Lui or Paul Walker, AD/CVD Operations, Office VI, Enforcement and Compliance, International Trade Administration, U.S. Department of Commerce, 1401 Constitution Avenue NW, Washington, DC 20230; telephone: (202) 482-0016 or (202) 482-0413, respectively.

SUPPLEMENTARY INFORMATION: On November 14, 2019, Commerce published the preliminary determination of sales at LTFV for ceramic tile from China.¹ In the Preliminary Determination, Commerce inadvertently omitted certain separate rate companies and their corresponding producers from the margin chart. Commerce also is correcting spelling errors for two additional separate rate companies.

¹ See Ceramic Tile from the People's Republic of China: Preliminary Affirmative Determination of Sales at Less Than Fair Value, Preliminary Negative Critical Circumstances Determination, and Postponement of Final Determination, 84 FR 61877 (November 14, 2019) (Preliminary Determination).

Additionally, in the Preliminary Determination, Commerce inadvertently identified Beilitai (Tianjin) Tile Co., Ltd. and its producers as receiving the separate rate applicable to non-individually examined companies.² Because we found in the Preliminary Determination that Beilitai (Tianjin) Tile Co., Ltd. should be treated as a single entity with mandatory respondent Belite Ceramics (Anyang) Co., Ltd. and Tianjin Honghui Creative Technology Co., Ltd.,³ Beilitai (Tianjin) Tile Co., Ltd. and its producers should be included in the margin applicable to Belite Ceramics (Anyang) Co., Ltd./Beilitai (Tianjin) Tile Co., Ltd./Tianjin Honghui Creative Technology Co., Ltd. We correct those omissions and errors in the chart below.

² See Preliminary Determination, 84 FR at 61878.

³ Id.

Exporter | Producer | Estimated weighted- average dumping margin (percent) | Cash deposit rate (adjusted for subsidy offsets) (percent)
Belite Ceramics (Anyang) Co., Ltd (Belite)/Beilitai (Tianjin) Tile Co., Ltd./Tianjin Honghui Creative Technology Co., Ltd | Belite Ceramics (Anyang) Co., Ltd./Beilitai (Tianjin) Tile Co., Ltd./Tianjin Honghui Creative Technology Co., Ltd | 244.26 | 233.72
Avangarde Ceramiche | Fujian Nan'an Xinglong Ceramics Co., Ltd | 178.20 | 167.66
| Guangdong Jiajun Ceramics Co., Ltd | 178.20 | 167.66
Beijing Shiji Mingtai Inc | Jinjiang Guoxing Ceramics Building Materials Co., Ltd | 178.20 | 167.66
| Fujian Honghua Group Co., Ltd | 178.20 | 167.66
| Fujian Zhangzhou Jianhua Ceramics Co., Ltd | 178.20 | 167.66
| Foshan Dongpeng Ceramics Co., Ltd | 178.20 | 167.66
| Fujian Huatai Group Co., Ltd | 178.20 | 167.66
| Quanzhou Zhiran Ceramics Co., Ltd | 178.20 | 167.66
| Quanzhou Yuanlong Building Materials Development Co., Ltd | 178.20 | 167.66
| Fujian Xindezhou Ceramics Co., Ltd | 178.20 | 167.66
| Jinjiang Juntao Ceramics Industry Co., Ltd | 178.20 | 167.66
Bestview (Fuzhou) Import & Export Co. Ltd | Foshan Lanyu Building Material Co. Ltd | 178.20 | 167.66
| Tianjin Belite Ceramics Co., Ltd Foshan Branch | 178.20 | 167.66
| Jingdezhen Leixi Building Material Factory | 178.20 | 167.66
| Foshan Nanhai District Energy Building Material Co., Ltd | 178.20 | 167.66
Buddy Mosaic Limited | Foshan Tanhua Building Material Co., Ltd | 178.20 | 167.66
Everstone Industry (Qingdao) Co., Ltd |  | 178.20 | 167.66
Foshan Junjing Industrial Co., Ltd | Guangdong Jialian Enterprise Ceramics Co., Ltd | 178.20 | 167.66
| Foshan Jinhong Ceramics Co., Ltd | 178.20 | 167.66
| Foshan Jinyi Ceramics Co., Ltd | 178.20 | 167.66
| Foshan Nanhai Longpeng Vitrified Brick Co., Ltd | 178.20 | 167.66
| Jiangxi Shiwan Global Ceramics Co., Ltd | 178.20 | 167.66
| Xinxing County Jinmaili Ceramics Co., Ltd | 178.20 | 167.66
| Foshan Lailida Building Material Co., Ltd | 178.20 | 167.66
| Fujian Mingsheng Ceramic Development Co., Ltd | 178.20 | 167.66
| Foshan Qiangshengda Building Material Co., Ltd | 178.20 | 167.66
| Guangdong Shenghui Ceramics Co., Ltd | 178.20 | 167.66
| Guangdong Xiejin Ceramics Co., Ltd | 178.20 | 167.66
| Qingyuan Xinjinshan Ceramics Co., Ltd | 178.20 | 167.66
| Sihui Quanquan Ceramics Co., Ltd | 178.20 | 167.66
| Enping Xiangda Ceramics Co., Ltd | 178.20 | 167.66
| Foshan Xinhenglong Polishing Brick Co., Ltd | 178.20 | 167.66
| Enping Xinjincheng Ceramics Co., Ltd | 178.20 | 167.66
| Guangdong Xinruncheng Ceramics Co., Ltd | 178.20 | 167.66
| Foshan Shiwan Yulong Ceramics Co., Ltd | 178.20 | 167.66
| Jiangmen Xinxingwei Building Material Co., Ltd | 178.20 | 167.66
| Jinjiang Zhongrong Ceramic Building Material Co., Ltd | 178.20 | 167.66
Foshan Rainbow Color Export & Import Co., Ltd | Foshan Baleno Ceramic Co., Ltd | 178.20 | 167.66
| Foshan Ligaote Ceramic Co., Ltd | 178.20 | 167.66
McMarmocer Ceramics Limited | Guangdong Overland Ceramics Co., Ltd | 178.20 | 167.66
Zhuhai Xuri Star Trading Co. Ltd | Zhuhai City Doumen District Xuri Pottery and Porcelain Company Limited | 178.20 | 167.66

This correction to the preliminary determination and notice are issued and published in accordance with sections 733(f) and 777(i)(1) of the Act and 19 CFR 351.205(c).

Date: December 9, 2019.
Jeffrey I. Kessler,
Assistant Secretary for Enforcement and Compliance.

[FR Doc. 2019-26905 Filed 12-12-19; 8:45 am]

BILLING CODE 3510-DS-P